SURFACE TRANSPORTATION BOARD

[Docket No. FD 36221]

Seminole Gulf Railway, L.P.—Acquisition and Operation Exemption—CSX Transportation, Inc.

Seminole Gulf Railway, L.P. (SGLR), a Class III rail carrier, has filed a verified notice of exemption under 49 CFR 1150.41 to acquire and operate approximately 2.25 miles of rail line owned by CSX Transportation, Inc. (CSXT), between milepost SVC 880.75 and milepost SVC 883.0, in Desoto County, Fla. (the Line).

SGLR states that it expects to enter into a purchase and sale agreement with CSXT before this exemption becomes effective. SGLR states that it seeks to acquire the Line to extend its current ownership. SGLR states that the proposed acquisition of the Line does not impose or include an interchange commitment.

SGLR certifies that the proposed transaction will not result in SGLR's becoming a Class II or Class I rail carrier and that the projected annual revenues of SGLR will not exceed $5 million.

The transaction may be consummated on or after October 7, 2018, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 28, 2018 (at least seven days before the exemption becomes effective).

An original and 10 copies of all pleadings, referring to Docket No. FD 36221, must be filed with the Surface Transportation Board, 395 E Street SW, Washington, DC 20423-0001. In addition, one copy of each pleading must be served on Eric M. Hocky, Clark Hill PLC, One Commerce Square, 2005 Market Street, Suite 1000, Philadelphia, PA 19103.

According to SGLR, this action is excluded from environmental review under 49 CFR 1105.6(c) and from historic reporting requirements under 49 CFR 1105.8(b).

Board decisions and notices are available on our website at www.stb.gov.

Decided: September 17, 2018.
By the Board, Scott M. Zimmerman, Acting Director, Office of Proceedings.
Raina Contee,
Clearance Clerk.

[FR Doc. 2018-20528 Filed 9-20-18; 8:45 am]

BILLING CODE 4915-01- P